NATIONAL AERONAUTICS AND SPACE ADMINISTRATION

[Notice: (23-009)]

Privacy Act of 1974; System of Records

AGENCY: National Aeronautics and Space Administration (NASA).

ACTION: Notice of a new system of records.

SUMMARY: In accordance with the requirements of the Privacy Act of 1974, the National Aeronautics and Space Administration is providing public notice of a new system of records entitled Opportunities and Associated Reviewers (OAAR). The notice incorporates all NASA locations and NASA standard routine uses. The system of records is more fully described in the SUPPLEMENTARY INFORMATION section of this notice.

DATES: Submit comments within 30 calendar days from the date of this publication. The proposed system will take effect at the end of that period if no significant adverse comments are received.

ADDRESSES: Submit comments to Bill Edwards-Bodmer, Privacy Act Officer, Office of the Chief Information Officer, Mary W. Jackson NASA Headquarters, Washington, DC 20546-0001, 757-864-3292, or NASA-PAOfficer@nasa.gov.

FOR FURTHER INFORMATION CONTACT: NASA Privacy Act Officer, Bill Edwards-Bodmer, 757-864-3292, or NASA-PAOfficer@nasa.gov.

SUPPLEMENTARY INFORMATION: NASA accepts solicited and unsolicited proposals and makes funded, non-funded and no-exchange-of-funds agreements using its other transaction authority (OTA) under the Space Act, the FAR, the NASA FAR Supplement, 2 CFR part 200 Grants and Agreement and directed appropriations (commonly called earmarks), that are managed by multiple NASA organizations using the Opportunities and Associated Reviewers (OAAR) records system. OAAR enables the review of proposals and the monitoring of performance and costing of any subsequent awards and/or partnership agreements.

Cheryl Parker,
Federal Register Liaison Officer.

SYSTEM NAME AND NUMBER:

Opportunities and Associated Reviewers, NASA 10OAAR.

SECURITY CLASSIFICATION:

Unclassified; Classified.

SYSTEM LOCATION:

• Mary W. Jackson NASA Headquarters, National Aeronautics and Space Administration, Washington, DC 20546-0001.

• NASA Shared Services Center, Building 1111, Jerry Hlass Road, Stennis Space Center, MS 39529.

SYSTEM MANAGER(S):

• Mission Directorates' Official Representative(s), NASA Research and Education Support Services, Mary W. Jackson NASA Headquarters—Washington, DC 20546-0001.

• Grants Activities Branch Chief, NASA Shared Services Center (NSSC) Stennis Space Center, MS 39529-6000.

• Director, NASA Partnerships Mary W. Jackson NASA Headquarters—Washington, DC 20546-0001.

AUTHORITY FOR MAINTENANCE OF THE SYSTEM:

• 51 U.S.C. 20113(a).

• 44 U.S.C. 3101.

• Title 2 of The Code of Federal Regulations.

• The Foundations for Evidence-Based Policymaking Act of 2019.

• Grant Reporting Efficiency and Agreements Transparency Act of 2019.

• Title 51—National and Commercial Space Programs. This title was enacted by Public Law 111-314, section 3, Dec. 18, 2010, 124 Stat. 3328; Public Law 111-314, 124 Stat. 3328 (Dec. 18, 2010).

• Title VI of the Civil Rights Act of 1964.

• Title IX of the Education Amendments of 1972.

• Section 504 of the Rehabilitation Act of 1973.

• The Age Discrimination Act of 1975.

• The American Innovation and Competitiveness Act (Pub. L. 114-329; Section 303(b)).

• The Federal Advisory Committee Act (“FACA”) of 1972 (5 U.S.C, Appendix 2, as amended).

PURPOSE(S) OF THE SYSTEM:

1. To evaluate proposals or requests for NASA-funds, including projects conducted on a no-exchange of funds basis, with partners under the authority of the Space Act or other transaction authority using data generated as part of the NASA merit review process.

2. To identify and contact subject matter experts (e.g., scientists, engineers, educators), who may be interested in applying for support, in attending a scientific or similar meeting, in applying for a position, or engagement in some similar opportunity or who may be interested in serving as reviewers in the peer review system or for inclusion on a NASA panel or advisory committee. Information from this system for this purpose may be used as a source of potential candidates to serve as reviewers as part of the NASA merit review process, or for inclusion on a review panel or advisory committee.

3. To evaluate progress and results of NASA-funded and other projects for program management, evaluation, or public reporting. Anonymized demographic information from this system for this purpose may be used to ensure compliance with Title VI of the Civil Rights Act of 1964, Title IX of the Education Amendments of 1972, Section 504 of the Rehabilitation Act of 1973, the Age Discrimination Act of 1975, and for public reporting in Agency- or Federally-produced products that are statistical in nature and do not identify individuals. Information from this system may be merged with other computer files to complete such public reporting, studies or evaluations as required by public law, regulations and/or executive orders.

CATEGORIES OF INDIVIDUALS COVERED BY THE SYSTEM:

Individuals, sometimes known as key personnel or project participants collectively, i.e., principal investigators, co-investigators, graduate students, postdoctoral fellows, educators, collaborators, subject matter experts, etc. and peer reviewers: (1) who have requested and/or received research funding or other support from NASA, either independently or via a non-profit or for-profit organization, a NASA Center or tribal, federal, state, local or foreign government agency and/or (2) who have been requested to or have served as a reviewer for NASA proposals or other types of applications, such as competed Space Act Agreements and requests for information (RFIs).

CATEGORIES OF RECORDS IN THE SYSTEM:

1. Proposal/Application/RFI Data—Names and contact information of investigators/partners; NASA-assigned non-sensitive identification numbers; sensitive demographic data, when voluntarily provided; proposals and supporting data from human and institutional applicants; and financial data.

2. Reviewer Data—Names, social security numbers, sensitive demographic data, contact information and responses from peer reviewers, including reviews and/or panel discussion summaries as applicable or other related material.

3. Post-Selection Data for (i) Awards, i.e., assistance, procurements, interagency transfer agreements and other funded agreements and (ii) no-exchange of funds partnership type agreements. Data may take the form of project and performance reports that may include major research activities and findings; research training; educational and outreach activities; and products such as citations to publications, contributions resulting from the research, and other related material.

RECORD SOURCE CATEGORIES:

Record sources are key project participants, academic or other applicant institutions, proposal reviewers, and NASA program officials.

ROUTINE USES OF RECORDS MAINTAINED IN THE SYSTEM, INCLUDING CATEGORIES OF USERS AND THE PURPOSES OF SUCH USES:

Any disclosures of information in this system of records will be relevant, necessary, and compatible with the purpose for which the Agency collected the information. Under the following routine uses that are unique to this system of records, records from this system may be disclosed to:

1. Qualified reviewers for their opinion and evaluation of applicants and their proposals as part of the NASA application review process; and to other government agencies or other entities needing information regarding applicants or nominees as part of a joint application review process, or in order to coordinate programs or policy; or to compensate reviewers for their work in accordance with reporting requirements under U.S. tax code.

2. Individual or institutional applicants and grantee/contracted institutions to provide or obtain data as part of the application review process, award decisions, or administering grant/procurement/cooperative awards.

3. Other entities when merging records with other computer files to carry out studies for or otherwise assist NASA with program management, evaluation, or reporting. Disclosure may be made for this purpose to NASA contractors, collaborating researchers, other government agencies, and qualified research institutions and their staffs. Disclosures are made only after scrutiny of research protocols and with appropriate controls. The results of such studies are administrative or statistical in nature and do not identify individuals.

4. Contractors, grantees, volunteers, experts, consultants, advisors, and other individuals who perform a service to or work on or under a contract, grant, cooperative agreement, advisory committee, independent review boards, or other arrangement with or for NASA or for the Federal government, as necessary to carry out their duties in pursuit of the purposes described above. The contractors are subject to the provisions of the Privacy Act.

5. The name, home institution, field of study, city, state, and zip code of key personnel whose proposals are selected for funding by NASA may be released for public information/affairs purposes, including press releases, if the disclosure of such record(s) would not constitute an unwarranted invasion of personal privacy.

6. Another Federal entity, including the Office of Science and Technology Policy, the National Science and Technology Council, etc., so the demographic and institutional data may be used for cross-Federal program management, evaluation, or reporting only after scrutiny of research protocols and with appropriate controls. The results of such strategic plans, reports, studies, or evaluations are statistical in nature and do not identify individuals.

In addition, information may be disclosed under the following NASA Standard Routine Uses:

1. Law Enforcement—When a record on its face, or in conjunction with other information, indicates a violation or potential violation of law, whether civil, criminal or regulatory in nature, and whether arising by general statute or particular program statute, or by regulation, rule, or order, disclosure may be made to the appropriate agency, whether Federal, foreign, State, local, or tribal, or other public authority responsible for enforcing, investigating or prosecuting such violation or charged with enforcing or implementing the statute, or rule, regulation, or order, if NASA determines by careful review that the records or information are both relevant and necessary to any enforcement, regulatory, investigative or prosecutive responsibility of the receiving entity.

2. Certain Disclosures to Other Agencies—A record from this SOR may be disclosed to a Federal, State, or local agency maintaining civil, criminal, or other relevant enforcement information or other pertinent information, such as current licenses, if necessary, to obtain information relevant to an agency decision concerning the hiring or retention of an employee, the issuance of a security clearance, the letting of a contract, or the issuance of a license, grant, or other benefit.

3. Certain Disclosures to Other Federal Agencies—A record from this SOR may be disclosed to a Federal agency, in response to its request, for a matter concerning the hiring or retention of an employee, the issuance of a security clearance, the reporting of an investigation of an employee, the letting of a contract, or the issuance of a license, grant, or other benefit by the requesting agency, to the extent that the information is relevant and necessary to the requesting agency's decision on the matter.

4. Department of Justice—A record from this SOR may be disclosed to the Department of Justice when (a) NASA, or any component thereof; or (b) any employee of NASA in his or her official capacity; or (c) any employee of NASA in his or her individual capacity where the Department of Justice has agreed to represent the employee; or (d) the United States, where NASA determines that litigation is likely to affect NASA or any of its components, is a party to litigation or has an interest in such litigation, and by careful review, the use of such records by the Department of Justice is deemed by NASA to be relevant and necessary to the litigation.

5. Courts—A record from this SOR may be disclosed in an appropriate proceeding before a court, grand jury, or administrative or adjudicative body, when NASA determines that the records are relevant and necessary to the proceeding; or in an appropriate proceeding before an administrative or adjudicative body when the adjudicator determines the records to be relevant and necessary to the proceeding.

6. Response to an Actual or Suspected Compromise or Breach of Personally Identifiable Information—A record from this SOR may be disclosed to appropriate agencies, entities, and persons when (1) NASA suspects or has confirmed that there has been a breach of the system of records; (2) NASA has determined that as a result of the suspected or confirmed breach there is a risk of harm to individuals, NASA (including its information systems, programs, and operations), the Federal Government, or national security; and (3) the disclosure made to such agencies, entities, and persons is reasonably necessary to assist in connection with NASA's efforts to respond to the suspected or confirmed breach or to prevent, minimize, or remedy such harm.

7. Members of Congress—A record from this SOR may be disclosed to a Member of Congress or to a Congressional staff member in response to an inquiry of the Congressional office made at the written request of the constituent about whom the record is maintained.

8. Disclosures to Other Federal Agencies in Response to an Actual or Suspected Compromise or Breach of Personally Identifiable Information—A record from this SOR may be disclosed to another Federal agency or Federal entity, when NASA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

9. National Archives and Records Administration—A record from this SOR may be disclosed as a routine use to the officers and employees of the National Archives and Records Administration (NARA) pursuant to records management inspections being conducted under the authority of 44 U.S.C. 2904 and 2906.

10. Audit—A record from this SOR may be disclosed to another agency, or organization for purpose of performing audit or oversight operations as authorized by law, but only such information as is necessary and relevant to such audit or oversight function.

POLICIES AND PRACTICES FOR STORAGE OF RECORDS:

Records primarily are stored on electronic digital media; however, when necessary, records may be stored in paper.

POLICIES AND PRACTICES FOR RETRIEVAL OF RECORDS:

Records are retrieved by an individual's name or proposal number or institution.

POLICIES AND PRACTICES FOR RETENTION AND DISPOSAL OF RECORDS:

Records are maintained and disposed of in accordance with NARA approved record schedules. Awarded proposals are permanent records and are transferred to NARA in accordance with the approved record schedule. Declined or withdrawn paper proposals are destroyed five years after close of year in which declined or withdrawn. Declined electronic proposals are retained in electronic archive on site at NASA for ten years after close of year in which declined or withdrawn. Electronic files are destroyed at the end of the ten-year retention period. Some records may be cumulative and maintained indefinitely.

ADMINISTRATIVE, TECHNICAL, AND PHYSICAL SAFEGUARDS:

Records are protected by administrative, technical, and physical safeguards administered by NASA or by contractors on behalf of NASA.

RECORD ACCESS PROCEDURES:

In accordance with 14 CFR part 1212, Privacy Act—NASA Regulations, and subject to exemptions described therein, individuals who wish to gain access to their records should submit their request in writing to the System Manager or Subsystem Manager at locations listed above. Requests may also be requested electronically by the individual on whom the records are maintained or by their authorized representative.

CONTESTING RECORD PROCEDURES:

The NASA regulations for access to records and for contesting contents and appealing initial determinations by the individual concerned appear in 14 CFR part 1212.

NOTIFICATION PROCEDURES:

In accordance with 14 CFR part 1212, Privacy Act—NASA Regulations, information may be obtained from the cognizant system or subsystem manager [or managers] listed at the above locations where the records are created and/or maintained.

EXEMPTIONS CLAIMED FOR THE SYSTEM:

The portions of this system consisting of data that would identify reviewers or other persons supplying evaluations of NASA proposals or for some personnel provided in proposals and awards have been exempted at 45 CFR part 613.5, pursuant to 5 U.S.C. 552a(k)(5).

HISTORY:

None.

[FR Doc. 2023-03749 Filed 2-22-23; 8:45 am]

BILLING CODE 7510-13-P